DEPARTMENT OF TRANSPORTATION

National Highway Traffic Safety Administration

[Docket No. NHTSA-2019-0029; NHTSA-2019-0030; Notice 1]

Mack Trucks, Inc., and Volvo Trucks North America, Receipt of Petitions for Decision of Inconsequential Noncompliance

AGENCY: National Highway Traffic Safety Administration (NHTSA), Department of Transportation (DOT).

ACTION: Receipt of petitions.

SUMMARY: Mack Trucks Inc., (Mack) and Volvo Trucks North America (Volvo) have determined that certain model year (MY) 2014-2019 Mack Trucks and certain MY 2014-2019 Volvo Trucks do not comply with Federal Motor Vehicle Safety Standard (FMVSS) 101, Controls and Displays. Both Mack and Volvo filed noncompliance reports dated August 16, 2018, and later amended them on August 23, 2018, and June 2, 2019. Both Mack and Volvo subsequently petitioned NHTSA on October 9, 2018, and later amended their petition on May 29, 2019, for a decision that the subject noncompliance is inconsequential as it relates to motor vehicle safety. This notice announces receipt of both Mack and Volvo's petitions.

DATES: Send comments on or before September 20, 2019.

ADDRESSES: Interested persons are invited to submit written data, views, and arguments on this petition. Comments must refer to the docket and notice number cited in the title of this notice and submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

SUPPLEMENTARY INFORMATION:

I. Overview

Mack and Volvo have determined that certain MY 2014-2019 Mack Trucks and MY 2014-2019 Volvo Trucks do not comply with Table 2 of FMVSS 101, Controls and Displays (49 CFR 571.101). Both Mack and Volvo filed noncompliance reports dated August 16, 2018, and later amended them on August 23, 2018, and June 2, 2019, pursuant to 49 CFR part 573, Defect and Noncompliance Responsibility and Reports. Both Mack and Volvo subsequently petitioned NHTSA on October 9, 2018, and later amended their petitions on May 29, 2019, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of Mack's and Volvo's petitions is published under 49 U.S.C. 30118 and 30120 and does not represent any agency decision or other exercise of judgment concerning the merits of their petitions.

II. Vehicles Involved

Approximately 95,000 MY 2014-2019 Mack Anthem, Granite, LR, Pinnacle, TerraPro, and Titan Trucks, manufactured between September 1, 2013, and August 13, 2018, are potentially involved.

Approximately 130,000 MY 2014-2019 Volvo VAH, VHD, VNL, VNM, VNR, VNX, and VT Trucks, manufactured between September 1, 2013, and August 13, 2018, are potentially involved.

III. Noncompliance

Mack and Volvo explained that the noncompliance is that the Low Brake Air Pressure telltale for air brake systems does not display the words “Brake Air,” as specified in Table 2 of FMVSS No. 101. The subject Mack vehicles include various combinations of low air telltales, pressure gauges, and available alerts, and the subject Volvo vehicles include both visual and audible warnings that are not an exact match to the “Brake Air” telltale requirement.

IV. Rule Requirements

Paragraphs S5 and S5.2.1 of FMVSS No. 101 includes the requirements relevant to this petition. Each passenger car, multipurpose passenger vehicle, truck and bus that is fitted with a control, a telltale, or an indicator listed in Table 1 or Table 2 must meet the requirements of FMVSS No. 101 for the location, identification, color, and illumination of that control, telltale or indicator.

Each control, telltale and indicator that is listed in column 1 of Table 1 or Table 2 must be identified by the symbol specified for it in column 2 or the word or abbreviation specified for it in column 3 of Table 1 or Table 2.

V. Summary of Petition

Mack and Volvo both described the subject noncompliance and stated its belief that the noncompliance is inconsequential as it relates to motor vehicle safety.

In support of their petitions, Mack and Volvo submitted the following reasoning:

1. Both Mack and Volvo provide a visual and audible alarm along with an air pressure gauges and feel that their vehicles, even though non-compliant, meet the intent of the regulation to provide a clear and visible warning to the driver when the air pressure in the service reservoir system is below 60 psi.

2. For Mack Granite, Pinnacle, and Titan model vehicles that are 2018 and earlier, the display includes two gauges and a red low air pressure indicator lamp for each gauge. When a low air pressure situation occurs, the driver is warned through the gauge, a red indicator lamp in each gauge, and an audible warning.

3. For Mack LR model vehicles, two pressure gauges, a low air telltale, a popup in the display, and an audible alarm are provided.

4. For Mack TerraPro model vehicles, pressure gauges, a low air telltale, and an audible alarm are provided.

5. On 2019 and later Anthem, Pinnacle, and Granite model vehicles, pressure gauges, a low air pressure pop-up (System Air Pressure is Low), and an audible alarm are provided.

6. For Volvo, 2014-2019 models, the display includes two gauges and a red low air pressure indicator lamp for each gauge. When a low air pressure situation occurs, the driver is warned through the gauge, a red indicator lamp in each gauge, and an audible warning. On all models and model years, a pop-up (Low System Air Pressure) is provided in addition to the gauges, a low-pressure indicator, and an audible alarm.

Both Mack and Volvo concluded by expressing the belief that the subject noncompliance is inconsequential as it relates to motor vehicle safety, and that their petitions to be exempt from providing notification of the noncompliance, as required by 49 U.S.C. 30118, and a remedy for the noncompliance, as required by 49 U.S.C. 30120, should be granted.

VI. NHTSA's Consideration

Any manufacturer that determines a noncompliance to exist and intends to petition the agency, pursuant to 49 CFR part 556.4(c), must submit their petition no later than 30 days after such determination. Both Mack and Volvo submitted their petitions 25 days past the 30-day requirement. However, due to the nature of the noncompliance and considering that the agency has previously granted similar untimely inconsequential noncompliance petitions, the agency has decided to accept both Mack and Volvo's petitions. Nonetheless, NHTSA cautions these petitioners, and all petitioners, that our discretionary acceptance of these petitions should not be viewed as precedential and that untimely petitions may be rejected in the future.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Mack and Volvo no longer controlled at the time they determined that the noncompliance existed. However, any decision on this petition does not relieve vehicle distributors and dealers of the prohibitions on the sale, offer for sale, or introduction or delivery for introduction into interstate commerce of noncompliant vehicles under their control after Mack and Volvo notified them that the subject noncompliance existed.

Authority: (49 U.S.C. 30118, 30120: delegations of authority at 49 CFR 1.95 and 501.8).

Otto G. Matheke III,
Director, Office of Vehicle Safety Compliance.

[FR Doc. 2019-17949 Filed 8-20-19; 8:45 am]

BILLING CODE 4910-59-P